NATIONAL FOUNDATION ON THE ARTS AND THE HUMANITIES

National Endowment for the Humanities

Meetings of Humanities Panel

AGENCY: National Endowment for the Humanities.

ACTION: Notice of meetings.

SUMMARY: The National Endowment for the Humanities will hold sixteen meetings of the Humanities Panel, a federal advisory committee, during March, 2016. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See SUPPLEMENTARY INFORMATION for meeting room numbers.

FOR FURTHER INFORMATION CONTACT: Elizabeth Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. DATE: March 8, 2016.

TIME: 8:30 a.m. to 5:00 p.m.

ROOM: P002.

This meeting will discuss applications on the subjects of American and British Literature for the Scholarly Editions and Translations grant program, submitted to the Division of Research Programs.

2. DATE: March 9, 2016.

TIME: 8:30 a.m. to 5:00 p.m.

ROOM: P002.

This meeting will discuss applications on the subject of World Literature for the Scholarly Editions and Translations grant program, submitted to the Division of Research Programs.

3. DATE: March 10, 2016.

TIME: 8:30 a.m. to 5:00 p.m.

ROOM: P002.

This meeting will discuss applications on the subject of Archaeology for the Collaborative Research grant program, submitted to the Division of Research Programs.

4. DATE: March 15, 2016.

TIME: 8:30 a.m. to 5:00 p.m.

ROOM: P002.

This meeting will discuss applications on the subject of Archaeology for the Collaborative Research grant program, submitted to the Division of Research Programs.

5. DATE: March 16, 2016.

TIME: 8:30 a.m. to 5:00 p.m.

ROOM: P002.

This meeting will discuss applications on the subject of American Studies for the Collaborative Research grant program, submitted to the Division of Research Programs.

6. DATE: March 17, 2016.

TIME: 8:30 a.m. to 5:00 p.m.

ROOM: P002.

This meeting will discuss applications on the subjects of the History of Science and the Social Sciences for the Collaborative Research grant program, submitted to the Division of Research Programs.

7. DATE: March 21, 2016.

TIME: 8:30 a.m. to 5:00 p.m.

ROOM: P003.

This meeting will discuss applications on the subject of U.S. History for Museums, Libraries, and Cultural Organizations: Implementation Grants, submitted to the Division of Public Programs.

8. DATE: March 22, 2016.

TIME: 8:30 a.m. to 5:00 p.m.

ROOM: P002.

This meeting will discuss applications on the subject of American History for the Scholarly Editions and Translations grant program, submitted to the Division of Research Programs.

9. DATE: March 23, 2016.

TIME: 8:30 a.m. to 5:00 p.m.

ROOM: P002.

This meeting will discuss applications on the subjects of Philosophy and Religion for the Scholarly Editions and Translations grant program, submitted to the Division of Research Programs.

10. DATE: March 23, 2016.

TIME: 8:30 a.m. to 5:00 p.m.

ROOM: P003.

This meeting will discuss applications on the subjects of History and Culture for Media Projects: Production Grants, submitted to the Division of Public Programs.

11. DATE: March 24, 2016.

TIME: 8:30 a.m. to 5:00 p.m.

ROOM: 4002.

This meeting will discuss applications on the subjects of Museums and Libraries for the Sustaining Cultural Heritage Collections grant program, submitted to the Division of Preservation and Access.

12. DATE: March 25, 2016.

TIME: 8:30 a.m. to 5:00 p.m.

ROOM: P002.

This meeting will discuss applications on the subject of World History for the Scholarly Editions and Translations grant program, submitted to the Division of Research Programs.

13. DATE: March 29, 2016.

TIME: 8:30 a.m. to 5:00 p.m.

ROOM: P002.

This meeting will discuss applications on the subjects of Philosophy and Religion for the Collaborative Research grant program, submitted to the Division of Research Programs.

14. DATE: March 30, 2016.

TIME: 8:30 a.m. to 5:00 p.m.

ROOM: P002.

This meeting will discuss applications on the subjects of World History and Literature for the Collaborative Research grant program, submitted to the Division of Research Programs.

15. DATE: March 31, 2016.

TIME: 8:30 a.m. to 5:00 p.m.

ROOM: 4002.

This meeting will discuss applications on the subject of Material Culture for the Sustaining Cultural Heritage Collections grant program, submitted to the Division of Preservation and Access.

16. DATE: March 31, 2016.

TIME: 8:30 a.m. to 5:00 p.m.

ROOM: P002.

This meeting will discuss applications on the subject of the Arts for the Scholarly Editions and Translations grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: February 17, 2016.
Elizabeth Voyatzis,
Committee Management Officer.

[FR Doc. 2016-03688 Filed 2-22-16; 8:45 am]

BILLING CODE 7536-01-P